DEPARTMENT OF TRANSPORTATION

Federal Highway Administration

Intelligent Transportation Society of America; Public Meeting

AGENCY: Federal Highway Administration (FHWA), DOT.

ACTION: Notice of public meeting.

SUMMARY: The Intelligent Transportation Society of America (ITS AMERICA) will hold a meeting of its Coordinating Council on Monday, October 14, 2002, in the McCormick Room at the Chicago Hilton. The meeting runs from 10 a.m.-2 p.m. A luncheon starts at 1 p.m.

The General Session includes the following items: (1) Welcome; (2) Introductions and Antitrust Statement; (3) Approval of Minutes (From the Last Meeting); (4) Approval of Program Plan Homeland Security Supplement and Advice Letter; (5) Approval of IVI Advice Letter; (6) Review Leadership Steering Committee Appointments; (7) Discussion of Areas of Responsibility (coverage)—Forums and Programs; (8) Review Two-Day Summit Agenda and Discussion of Logistics; (9) Discussion of Outcome Strategies: Special Interest Groups, Management of Projects, Member Communication, and Other Items; (10) Other Business; (11) Luncheon; (12) Adjourn.

ITS AMERICA provides a forum for national discussion and recommendations on ITS activities including programs, research needs, strategic planning, standards, international liaison, and priorities.

The charter for the utilization of ITS AMERICA establishes this organization as an advisory committee under the Federal Advisory Committee Act (FACA) 5 U.S.C. app. 2, when it provides advice or recommendations to DOT officials on ITS policies and programs. (56 FR 9400, March 6, 1991).

DATES: The Coordinating Council of ITS AMERICA will meet on Monday, October 14, 2002 from 10 a.m.-2 p.m.

ADDRESSES: The Hilton Chicago, 720 S. Michigan Ave., Chicago, IL 60605. Phone: (312) 922-4400 and Fax (312) 922-5240.

FOR FURTHER INFORMATION CONTACT: Materials associated with this meeting may be examined at the offices of ITS AMERICA, 400 Virginia Avenue SW., Suite 800, Washington, DC 20024. Persons needing further information or who request to speak at this meeting should contact Debbie M. Busch at ITS AMERICA by telephone at (202) 484-2904 or by FAX at (202) 484-3483. The DOT contact is Kristy Frizzell, FHWA, HOIT, Washington, DC 20590, (202) 366-9536. Office hours are from 8:30 a.m. to 5 p.m., e.t., Monday through Friday, except for legal holidays.

(23 U.S.C. 315; 49 CFR 1.48)
Issued on: October 2, 2002.
Jeffrey Paniati,
Acting Associate Administrator, Office of Operations, Federal Highway Administration, and Acting Director, ITS Joint Program Office, Department of Transportation.

[FR Doc. 02-25413 Filed 10-4-02; 8:45 am]

BILLING CODE 4910-22-P